DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Actions

On July 25, 2019, OFAC determined that the property and interests in property subject to U.S. jurisdiction of the following persons are blocked under the relevant sanctions authorities listed below.

Individuals

1. SAAB MORAN, Alex Nain (a.k.a. SAAB MORAN, Alex (Latin: SAAB MORÁN, Alex); a.k.a. SAAB, Alex); DOB 21 Dec 1971; Gender Male; Cedula No. 72180017 (Colombia); Passport PE085897 (Colombia); alt. Passport 085635076 (Venezuela); alt. Passport D010302 (Antigua and Barbuda) (individual) [VENEZUELA-EO13850].

Designated pursuant to section 1(a)(ii) of Executive Order 13850 of November 1, 2018, “Blocking Property of Additional Persons Contributing to the Situation in Venezuela” (E.O. 13850), as amended by Executive Order 13857 of January 25, 2019, “Taking Additional Steps To Address the National Emergency With Respect to Venezuela,” (E.O. 13857) for being responsible for or complicit in, or having directly or indirectly engaged in, any transaction or series of transactions involving deceptive practices or corruption and the Government of Venezuela or projects or programs administered by the Government of Venezuela, or for being an immediate adult family member of such a person.

Also designated pursuant to section 1(a)(i) of E.O. 13850, as amended by E.O. 13857, for operating in the gold sector of the Venezuelan economy.

2. SAAB CERTAIN, Isham Ali; DOB 14 Apr 1999; POB Barranquilla, Colombia; citizen Colombia; Gender Male; Passport AS005095 (Colombia); National ID No. 99041408126 (Colombia) (individual) [VENEZUELA-EO13850] (Linked To: SAAB MORAN, Alex Nain).

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

3. SAAB CERTAIN, Shadi Nain (a.k.a. SAAB, Shadi; a.k.a. SAAB, Shadi Nain); DOB 25 Apr 1996; POB Barranquilla, Colombia; citizen Colombia; Gender Male; Passport PE097209 (Colombia); National ID No. 1045738303 (Colombia) (individual) [VENEZUELA-EO13850] (Linked To: SAAB MORAN, Alex Nain).

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

4. PULIDO VARGAS, Alvaro Enrique (a.k.a. PULIDO VARGAS, Alvaro (Latin: PULIDO VARGAS, Álvaro); a.k.a. RUBIO SALAS, German Enrique); DOB 10 Dec 1963; citizen Colombia; Gender Male; Cedula No. 79324956 (Colombia) (individual) [VENEZUELA-EO13850].

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

5. RUBIO GONZALEZ, Emmanuel Enrique (a.k.a. RUBIO-GONZALEZ, Emmanuel Enrique); DOB 06 Jan 1989; POB Bogota, Colombia; nationality Colombia; Gender Male; Cedula No. 21807689; Passport AM807340 (Colombia); alt. Passport PE139553 (Colombia); alt. Passport 087105100 (Venezuela); National ID No. 1015410162 (Colombia) (individual) [VENEZUELA-EO13850] (Linked To: PULIDO VARGAS, Alvaro Enrique).

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

6. GAVIDIA FLORES, Yoswal Alexander, Caracas, Capital District, Venezuela; DOB 06 Aug 1990; citizen Venezuela; Gender Male; Cedula No. 19733466 (Venezuela); Passport 134559177 (Venezuela) expires 11 May 2021 (individual) [VENEZUELA-EO13850].

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

7. GAVIDIA FLORES, Walter Jacob (a.k.a. GAVIDIA-FLORES, Walter), Caracas, Capital District, Venezuela; DOB 15 Dec 1978; citizen Venezuela; Gender Male; Cedula No. 14407259 (Venezuela); Passport 113561269 (Venezuela) expires 28 Jan 2020 (individual) [VENEZUELA-EO13850].

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

8. GAVIDIA FLORES, Yosser Daniel (a.k.a. GAVIDIA-FLORES, Yosser), Caracas, Capital District, Venezuela; DOB 11 Oct 1988; citizen Venezuela; Gender Male; Cedula No. 18815328 (Venezuela); Passport 135713284 (Venezuela) expires 31 May 2021 (individual) [VENEZUELA-EO13850].

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

9. STAUDINGER LEMOINE, Mariana Andrea, Caracas, Capital District, Venezuela; DOB 23 Apr 1990; citizen Venezuela; Gender Female; Cedula No. 19195336 (Venezuela) (individual) [VENEZUELA-EO13850] (Linked To: GAVIDIA FLORES, Yosser Daniel).

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

10. VIELMA MORA, Jose Gregorio, Caracas, Capital District, Venezuela; DOB 26 Oct 1964; Gender Male; Cedula No. 6206038 (Venezuela) (individual) [VENEZUELA].

Designated pursuant to section 1(a)(ii)(C) of Executive Order 13692 of March 8, 2015, “Blocking Property and Suspending Entry of Certain Persons Contributing to the Situation in Venezuela,” as amended by E.O. 13857, for being a current or former official of the Government of Venezuela.

Entities

1. ASASI FOOD FZE (a.k.a. ASASI FOODS FZC), Rakeem Building, Ras Al Khaimah Economic Zone, Ras-Al-Khaimah, United Arab Emirates; P.O. Box 40803, Ras-Al-Khaimah, United Arab Emirates; P.O. Box 0843-01732, Panama [VENEZUELA-EO13850] (Linked To: SAAB MORAN, Alex Nain).

Designated pursuant to section 1(a)(iv) of E.O. 13850, as amended by E.O. 13857, for being owned or controlled by, or having acted or purported to act for or on behalf of, directly or indirectly, SAAB MORAN, Alex Nain, a person whose property and interests in property are blocked pursuant to E.O. 13850, as amended by E.O. 13857.

2. GROUP GRAND LIMITED (a.k.a. GROUP GRAND LIMITED GENERAL TRADING; a.k.a. GROUP GRAND LTD.), Room C, 25/F Cheuk Nang Plaza, 250 Hennessy Road, Wan Chai, Hong Kong; Registration Number 1871367 (Hong Kong) [VENEZUELA-EO13850] (Linked To: SAAB MORAN, Alex Nain).

Designated pursuant to section 1(a)(iv) of E.O. 13850, as amended by E.O. 13857, for being owned or controlled by, or having acted or purported to act for or on behalf of, directly or indirectly, SAAB MORAN, Alex Nain, a person whose property and interests in property are blocked pursuant to E.O. 13850, as amended by E.O. 13857.

3. GROUP GRAND LIMITED GENERAL TRADING, Dubai, United Arab Emirates [VENEZUELA-EO13850] (Linked To: SAAB MORAN, Alex Nain).

Designated pursuant to section 1(a)(iv) of E.O. 13850, as amended by E.O. 13857, for being owned or controlled by, or having acted or purported to act for or on behalf of, directly or indirectly, SAAB MORAN, Alex Nain, a person whose property and interests in property are blocked pursuant to E.O. 13850, as amended by E.O. 13857.

4. SILVER BAY PARTNERS FZE, Manara Industrial Zone, Ras Al Khaimah Economic Zone, Ras Al Khaimah, United Arab Emirates; Flexi Office, Business Center, Rakez Business Zone, Ras Al Khaimah, United Arab Emirates [VENEZUELA-EO13850].

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

5. C I FONDO GLOBAL DE ALIMENTOS LTDA, Calle 128 B 78 90, Bogota, DC 1103, Colombia; NIT # 9002234401 (Colombia) [VENEZUELA-EO13850] (Linked To: RUBIO GONZALEZ, Emmanuel Enrique).

Designated pursuant to section 1(a)(iv) of E.O. 13850, as amended by E.O. 13857, for being owned or controlled by, or having acted or purported to act for or on behalf of, directly or indirectly, RUBIO GONZALEZ, Emmanuel Enrique, a person whose property and interests in property are blocked pursuant to E.O. 13850, as amended by E.O. 13857.

6. EMMR & CIA. S.A.S. (a.k.a. EMMR AND CIA. S.A.S.; a.k.a. EMMR Y CIA. S.A.S.; a.k.a. EMMR Y COMPANIA S A S), Calle 79 42 318, Barranquilla, Atlantico, Colombia; NIT # 9005964804 (Colombia) [VENEZUELA-EO13850] (Linked To: RUBIO GONZALEZ, Emmanuel Enrique).

Designated pursuant to section 1(a)(iv) of E.O. 13850, as amended by E.O. 13857, for being owned or controlled by, or having acted or purported to act for or on behalf of, directly or indirectly, RUBIO GONZALEZ, Emmanuel Enrique, a person whose property and interests in property are blocked pursuant to E.O. 13850, as amended by E.O. 13857.

7. GLOBAL STRUCTURE, S.A., Panama City, Panama; Folio Mercantil No. 844394 (Panama) [VENEZUELA-EO13850] (Linked To: RUBIO GONZALEZ, Emmanuel Enrique).

Designated pursuant to section 1(a)(iv) of E.O. 13850, as amended by E.O. 13857, for being owned or controlled by, or having acted or purported to act for or on behalf of, directly or indirectly, RUBIO GONZALEZ, Emmanuel Enrique, a person whose property and interests in property are blocked pursuant to E.O. 13850, as amended by E.O. 13857.

8. GROUP GRAND LIMITED, S.A. DE C.V. (a.k.a. GROUP GRAND LIMITED), Mexico City, Mexico; Folio Mercantil No. N-2017034206 (Mexico) [VENEZUELA-EO13850] (Linked To: RUBIO GONZALEZ, Emmanuel Enrique).

Designated pursuant to section 1(a)(iv) of E.O. 13850, as amended by E.O. 13857, for being owned or controlled by, or having acted or purported to act for or on behalf of, directly or indirectly, RUBIO GONZALEZ, Emmanuel Enrique, a person whose property and interests in property are blocked pursuant to E.O. 13850, as amended by E.O. 13857.

9. MULTITEX INTERNATIONAL TRADING, S.A., Panama City, Panama; Folio Mercantil No. 844396 (Panama) [VENEZUELA-EO13850] (Linked To: RUBIO GONZALEZ, Emmanuel Enrique).

Designated pursuant to section 1(a)(iv) of E.O. 13850, as amended by E.O. 13857, for being owned or controlled by, or having acted or purported to act for or on behalf of, directly or indirectly, RUBIO GONZALEZ, Emmanuel Enrique, a person whose property and interests in property are blocked pursuant to E.O. 13850, as amended by E.O. 13857.

10. MULBERRY PROJE YATIRIM ANONIM SIRKETI (a.k.a. MULBERRY PROJE YATIRIM; a.k.a. MULBERRY PROJE YATIRIM A.S.), Istanbul, Turkey; Cihannuma Mah. Dortyuzlucesme Sk. Gunes, Apt. 2/6, Besiktas, Istanbul, Turkey [VENEZUELA-EO13850].

Designated pursuant to section 1(a)(ii) of E.O. 13850, as amended by E.O. 13857, for being responsible for or complicit in, or having directly or indirectly engaged in, any transaction or series of transactions involving deceptive practices or corruption and the Government of Venezuela or projects or programs administered by the Government of Venezuela, or for being an immediate adult family member of such a person.

11. SEAFIRE FOUNDATION, Panama City, Panama; Identification Number 56437 (Panama) [VENEZUELA-EO13850] (Linked To: SAAB MORAN, Alex Nain).

Designated pursuant to section 1(a)(iv) of E.O. 13850, as amended by E.O. 13857, for being owned or controlled by, or having acted or purported to act for or on behalf of, directly or indirectly, SAAB MORAN, Alex Nain, a person whose property and interests in property are blocked pursuant to E.O. 13850, as amended by E.O. 13857.

12. SUN PROPERTIES LLC, DE, United States; 801 South Miami Ave, Unit PH5803, Miami, FL, United States; File Number 6096108 (United States) [VENEZUELA-EO13850] (Linked To: RUBIO GONZALEZ, Emmanuel Enrique).

Designated pursuant to section 1(a)(iv) of E.O. 13850, as amended by E.O. 13857, for being owned or controlled by, or having acted or purported to act for or on behalf of, directly or indirectly, RUBIO GONZALEZ, Emmanuel Enrique, a person whose property and interests in property are blocked pursuant to E.O. 13850, as amended by E.O. 13857.

13. CLIO MANAGEMENT CORP., Panama; Folio Mercantil No. 724213 (Panama) [VENEZUELA-EO13850] (Linked To: PULIDO VARGAS, Alvaro Enrique).

Designated pursuant to section 1(a)(iv) of E.O. 13850, as amended by E.O. 13857, for being owned or controlled by, or having acted or purported to act for or on behalf of, directly or indirectly, PULIDO VARGAS, Alvaro Enrique, a person whose property and interests in property are blocked pursuant to E.O. 13850, as amended by E.O. 13857.

Dated: July 31, 2019.
Andrea Gacki,
Director, Office of Foreign Assets Control.

[FR Doc. 2019-16646 Filed 8-2-19; 8:45 am]

BILLING CODE 4810-AL-P